DEPARTMENT OF AGRICULTURE

Forest Service

Northern Utah Resource Advisory Committee

AGENCY: Forest Service, Agriculture (USDA).

ACTION: Notice of meeting.

SUMMARY: The Northern Utah Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on Ashley and Uinta-Wasatch-Cache National Forests, consistent with the Federal Lands Recreation Enhancement Act. RAC information and meeting information can be found at the following website: https://www.fs.usda.gov/ashley/ and https://www.fs.usda.gov/uwcnf.

DATES: The meeting will be held on August 25, 2021, at 6:00 p.m., Mountain Daylight Time. All RAC meetings are subject to cancellation. For status of the meeting prior to attendance, please contact the person listed under For Further Information Contact.

ADDRESSES: The meeting will be held virtually via telephone and/or video conference.

Written comments may be submitted as described under Supplementary Information. All comments, including names and addresses when provided, are placed in the record and are available for public inspection and copying. The public may inspect comments received upon request.

FOR FURTHER INFORMATION CONTACT: Dave Whittekiend, Designated Federal Officer (DFO), by email at david.whittekiend@usda.gov, 801-999-2104; Ms. Loyal Clark, by email at loyal.clark@usda.gov, 801-999-2113; or Don Jaques, by email at donald.jaques@usda.gov, 435-781-5119.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Review Resource Advisory Committee operating guidelines;

2. Review and approve project selection criteria and prioritization process;

3. Review and approve project scoring procedure;

4. Provide project solicitation update;

5. General questions and answers;

6. Approve meeting minutes; and

7. Schedule next meeting.

The meeting is open to the public. The agenda will include time for people to make oral statements of three minutes or less. Individuals wishing to make an oral statement should request in writing by August 18, 2021, to be scheduled on the agenda. Anyone who would like to bring related matters to the attention of the committee may file written statements with the committee staff before or after the meeting. Written comments and requests for time for oral comments must be sent to Ms. Loyal Clark, Uinta-Wasatch-Cache National Forest, 857 West South Jordan Parkway, South Jordan, UT 84057; or by email to loyal.clark@usda.gov.

Meeting Accommodations: If you are a person requiring reasonable accommodation, please make requests in advance for sign language interpreting, assistive listening devices, or other reasonable accommodation. For access to the facility or proceedings, please contact the persons listed in the section titled FOR FURTHER INFORMATION CONTACT. All reasonable accommodation requests are managed on a case-by-case basis.

Dated: July 27, 2021.
Cikena Reid,
USDA Committee Management Officer.

[FR Doc. 2021-16338 Filed 7-30-21; 8:45 am]

BILLING CODE 3411-15-P